Title 3—

The President

Notice of July 19, 2017

Continuation of the National Emergency With Respect to Transnational Criminal Organizations

On July 24, 2011, by Executive Order 13581, the President declared a national emergency with respect to transnational criminal organizations pursuant to the International Emergency Economic Powers Act (50 U.S.C. 1701-1706) to deal with the unusual and extraordinary threat to the national security, foreign policy, and economy of the United States constituted by the activities of significant transnational criminal organizations.

Significant transnational criminal organizations continue to threaten the safety of the United States and its citizens through the scope and gravity of their actions. Such organizations derive revenue through widespread illegal conduct and overwhelmingly demonstrate a blatant disregard for human life through acts of violence and abuse. These organizations often facilitate and aggravate violent civil conflicts and increasingly facilitate the activities of other dangerous persons. As the sophistication of these organizations increases, they pose an increasing threat to the United States.

The activities of significant transnational criminal organizations continue to pose an unusual and extraordinary threat to the national security, foreign policy, and economy of the United States. For this reason, the national emergency declared in Executive Order 13581 of July 24, 2011, and the measures adopted on that date to deal with that emergency, must continue in effect beyond July 24, 2017. Therefore, in accordance with section 202(d) of the National Emergencies Act (50 U.S.C. 1622(d)), I am continuing for 1 year the national emergency with respect to transnational criminal organizations declared in Executive Order 13581.

This notice shall be published in the Federal Register and transmitted to the Congress.

THE WHITE HOUSE,

July 19, 2017.

[FR Doc. 2017-15461

Filed 7-19-17; 1:00 pm]

Billing code 3295-F7-P